DEPARTMENT OF TRANSPORTATION

Federal Motor Carrier Safety Administration

[Docket No. FMCSA-2007-0004]

Agency Information Collection Activities; Revision of a Currently Approved Information Collection: Motor Carrier Identification Report

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for review and approval and invites public comment. The FMCSA requests approval to revise an ICR entitled, “Motor Carrier Identification Report,” which is used to identify FMCSA regulated entities, help prioritize the agency's activities, aid in assessing the safety outcomes of those activities, and for statistical purposes.

DATES: We must receive your comments on or before January 7, 2008.

ADDRESSES: You may submit comments bearing the Department of Transportation (DOT) Docket Management System (DMS) Docket Number FMCSA Docket Number FMCSA-2007-0004 using any of the following methods:

• Federal eRulemaking Portal: Go to http://www.regulations.gov. Follow the on-line instructions for submitting comments.

• Mail: Docket Management Facility; U.S. Department of Transportation, 1200 New Jersey Avenue, SE., West Building Group Floor, Room W12-140, Washington, DC 20590-0001.

• Hand Delivery: West Building Ground Floor, Room W12-140, 1200 New Jersey Avenue, SE., Washington DC, 20590 between 9 a.m. and 5 p.m., e.t., Monday through Friday, except Federal holidays.

• Fax: 1-202-493-2251.

Each submission must include the Agency name and the docket number for this Notice. Note that DOT posts all comments received without change to http://www.regulations.gov, including any personal information included in a comment. Please see the Privacy Act heading below:

Docket: For access to the docket to read background documents or comments, go to http://www.regulations.gov at any time or Room W12-140 on the ground level of the West Building, 1200 New Jersey Avenue, SE., Washington, DC, between 9 a.m. and 5 p.m., Monday through Friday, except Federal holidays. The DMS is available 24 hours each day, 365 days each year. If you want acknowledgement that we received your comments, please include a self-addressed, stamped envelope or post card or print the acknowledgement page that appears after submitting on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19477-78; Apr. 11, 2000). This information is also available at http://Docketinfo.dot.gov.

FOR FURTHER INFORMATION CONTACT: Ms. Arlene D. Thompson, Information Systems Specialist, Office of Information Technology, Operations Division, Department of Transportation, Federal Motor Carrier Safety Administration, 6th Floor, West Building, 1200 New Jersey Ave., SE., Washington, DC 20590. Telephone Number: (202) 366-2094; e-mail Address: Arlene.thompson@dot.gov. Office hours are from 9 a.m. to 5 p.m., Monday through Friday, except Federal holidays.

SUPPLEMENTARY INFORMATION:

Background: Title 49 U.S.C. 504(b)(2) provides the Secretary of Transportation (Secretary) with authority to require carriers, lessors, associations, or classes of them to file annual, periodic, and special reports containing answers to questions asked by the Secretary. The Secretary may also prescribe the form of records required to be prepared or compiled and the time period during which records must be preserved (See §§ 504(b)(1) and (d)). The FMCSA will use this data to administer its safety programs by establishing a database of entities that are subject to its regulations. This database necessitates that these entities notify the FMCSA of their existence. For example, under 49 CFR 390.19(a), FMCSA requires all motor carriers beginning operations to file a Form MCS-150 entitled, “Motor Carrier Identification Report.” This report is filed by all motor carriers conducting operations in interstate or international commerce within 90 days after beginning operations. It asks the respondent to provide the name of the business entity that owns and controls the motor carrier operation, address and telephone of principal place of business, assigned identification number(s), type of operation, types of cargo usually transported, number of vehicles owned, term leased and trip leased, driver information, and certification statement signed by an individual authorized to sign documents on behalf of the business entity.

The Department of Transportation (DOT) and Related Agencies Appropriations Act for fiscal year 2002 (DOT Appropriations Act) (Pub. L. 107-87, 115 Stat. 833 (December 18, 2001) directed the agency to issue an interim final rule (IFR) to ensure that new entrant motor carriers are knowledgeable about the Federal Motor Carrier Safety Regulations (FMCSRs) and standards. The IFR was published on May 13, 2002 (67 FR 31983). The Form MCS-150A associated with this rule is entitled, “Safety Certification for Application for U.S. DOT Number,” and is used to help ensure that new entrants are knowledgeable about the Federal motor carrier safety regulations and standards before being granted registration authority to operate in interstate commerce (Intrastate carriers are not considered new entrants since they do not operate in interstate commerce; and thus do not need to complete or file the Form MCS-150A.). Under the Form MCS-150A, as required by 49 CFR 385.305, the new entrant must certify that it has a system(s) in place to ensure compliance with applicable requirements covering driver qualifications, hours-of-service, controlled substance and alcohol testing, vehicle condition, accident monitoring and hazardous materials (HM) transportation. The certification reminds the new entrant of its statutory and regulatory responsibilities, which if neglected or violated, may subject the applicant to civil penalties and lead to the revocation of the new entrant registration.

On June 30, 2004, the agency issued another final rule entitled, “Federal Motor Carrier Safety Regulations: Hazardous Materials Safety Permits,” (69 FR 39350) which required all HM carriers (both interstate and intrastate) to complete and file the Form MCS-150B entitled, “Combined Motor Carrier Identification Report and HM Permit Application,” to obtain a safety permit to transport hazardous materials. The safety program under 49 CFR 390.19(a) also requires all HM permitted carriers to complete Form MCS-150B in place of the current Form MCS-150 to “renew” both their permit and their DOT numbers according to the DOT number renewal schedule.

Accordingly, FMCSA seeks to revise this currently-approved information collection to update the records and forms associated with its safety programs identified above; and to identify the regulated entities currently engaged in these activities.

Title: Motor Carrier Identification Report.

OMB Control Number: 2126-0013.

Type of Request: Revision of a currently-approved information collection.

Respondents: Motor carriers and commercial motor vehicle drivers.

Estimated Number of Respondents: 472,470.

Estimated Time per Response: To complete Form MCS-150—20 minutes; and for Form MCS-150A—9 minutes. To complete Form MCS-150B (HM Permit Application)—6 minutes for interstate carriers that have already completed the Form MCS-150; and for intrastate carriers that have never completed a Form MCS-150—they will need about 16 minutes to complete the permit renewal.

Expiration Date: January 31, 2008.

Frequency of Response: One-time for Form MCS-150; biennially for MCS-150A; and MCS-150B.

Estimated Total Annual Burden: 119,270 hours [108,825 hours for Form MCS-150 + 10,305 hours for Form MCS-150A + 140 hours for Form MCS-150B = 119,270 hours].

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize or include your comments in the request for OMB's clearance of this information collection.

Issued on: November 1, 2007.
Terry Shelton,
Associate Administrator for Research and Information Technology.

[FR Doc. E7-21880 Filed 11-6-07; 8:45 am]

BILLING CODE 4910-EX-P